DEPARTMENT OF ENERGY

Federal Energy Regulatory Commission

[Project No. 9379-013]

Renewable World Energies, LLC, Grenfell, LLC; Notice of Transfer of Exemption

1. On March 6, 2023, Renewable World Energies, LLC exemptee for the 280-kilowatt Belding Dam Hydroelectric Project No. 9379, filed a letter notifying the Commission that the project was transferred from Renewable World Energies, LLC to Grenfell, LLC. The exemption from licensing was originally issued on March 17, 1986.¹ The project is located on the Flat River, Ionia County, Michigan. The transfer of an exemption does not require Commission approval.

¹ Grenfell Hydroelectric Associates, 34 FERC ¶ 62,524 (1986). Subsequently, on February 19, 2013, the project was transferred to Renewable World Energies, LLC.

2. Grenfell, LLC is now the exemptee of the Belding Dam Hydroelectric Project No. 9379. All correspondence must be forwarded to Mr. Jason Kreuscher, Renewable World Energies Corporate Office, 100 S State Street, Neshkoro, WI 54960, Phone: 855-994-9376 ext. 102, Email: jason@rwehydro.com.

Dated: April 4, 2023.
Debbie-Anne A. Reese,
Deputy Secretary.

[FR Doc. 2023-07450 Filed 4-7-23; 8:45 am]

BILLING CODE 6717-01-P